CONSUMER PRODUCT SAFETY COMMISSION

16 CFR Ch. II

Semiannual Regulatory Agenda

AGENCY: U.S. Consumer Product Safety Commission.

ACTION: Semiannual regulatory agenda.

SUMMARY: In this document, the Commission publishes its semiannual regulatory flexibility agenda. In addition, this document includes an agenda of regulatory actions the Commission expects to be under development or review by the agency during the next year. This document meets the requirements of the Regulatory Flexibility Act and Executive Order 12866.

DATES: The Commission welcomes comments on each subject area of the agenda, particularly from small businesses, small organizations, and other small entities. Written comments concerning the agenda should be received in the Office of the Secretary by July 20, 2011.

ADDRESSES: Comments on the regulatory flexibility agenda should be captioned “Regulatory Flexibility Agenda” and be e-mailed to cpsc-os@cpsc.gov or filed by fax to (301) 504-0127. Comments may also be mailed or delivered to the Office of the Secretary, U.S. Consumer Product Safety Commission, Room 502, 4330 East West Highway, Bethesda, MD 20814-4408.

FOR FURTHER INFORMATION CONTACT: For further information on the agenda in general, contact Mary T. Boyle, Office of the General Counsel, U.S. Consumer Product Safety Commission, 4330 East West Highway, Bethesda, MD 20814-4408; mboyle@cpsc.gov. For further information regarding a particular item on the agenda, consult the individual listed in the column headed “Contact” for that particular item.

SUPPLEMENTARY INFORMATION: The Regulatory Flexibility Act (RFA) (5 U.S.C. 601 to 612) contains several provisions intended to reduce unnecessary and disproportionate regulatory requirements on small businesses, small governmental organizations, and other small entities. Section 602 of the RFA (5 U.S.C. 602) requires each agency to publish twice each year a regulatory flexibility agenda containing a brief description of the subject area of any rule expected to be proposed or promulgated that is likely to have a “significant economic impact” on a “substantial number” of small entities. The agency must also provide a summary of the nature of the rule and a schedule for acting on each rule for which the agency has issued a notice of proposed rulemaking.

The regulatory flexibility agenda is also required to contain the name and address of the agency official knowledgeable about the items listed. Further, agencies are required to provide notice of their agendas to small entities and to solicit their comments by direct notification, or by inclusion in publications likely to be obtained by such entities.

Additionally, Executive Order 12866 requires each agency to publish twice each year a regulatory agenda of regulations under development or review during the next year and states that such an agenda may be combined with the agenda published in accordance with the RFA. The regulatory flexibility agenda lists the regulatory activities expected to be under development or review during the next 12 months. It includes all such activities, whether or not they may have a significant economic impact on a substantial number of small entities. This agenda also includes regulatory activities that appeared in the September 2010 agenda and have been completed by the Commission prior to publication of this agenda.

The agenda contains a brief description and summary of each regulatory activity, including the objectives and legal basis for each; an approximate schedule of target dates, subject to revision, for the development or completion of each activity; and the name and telephone number of a knowledgeable agency official concerning particular items on the agenda. All agency contacts have the same address: U.S. Consumer Product Safety Commission, 4330 East West Highway, Bethesda, MD 20814-4408.

Beginning in fall 2007, the Internet became the basic means for dissemination of the Unified Agenda. The complete Unified Agenda will be available online at www.reginfo.gov, in a format that offers users a greatly enhanced ability to obtain information from the Agenda database.

Because publication in the Federal Register is mandated for the regulatory flexibility agendas required by the Regulatory Flexibility Act (5 U.S.C. 602), the Commission's printed agenda entries include only:

(1) Rules that are in the Agency's regulatory flexibility agenda, in accordance with the Regulatory Flexibility Act because they are likely to have a significant economic impact on a substantial number of small entities; and

(2) Any rules that the Agency has identified for periodic review under section 610 of the Regulatory Flexibility Act.

Printing of these entries is limited to fields that contain information required by the Regulatory Flexibility Act's agenda requirements. Additional information on these entries is available in the Unified Agenda published on the Internet.

Dated: February 25, 2011.
Todd A. Stevenson,
Secretary, Consumer Product Safety Commission.

Consumer Product Safety Commission—Completed Actions
Sequence No. | Title | Regulation Identifier No.
328 | Options To Address Crib Safety Hazards | 3041-AC57
329 | Toddler Beds | 3041-AC82
330 | Bicycle Regulation Amendments | 3041-AC95

CONSUMER PRODUCT SAFETY COMMISSION (CPSC)

Completed Actions

328. Options To Address Crib Safety Hazards

Legal Authority: Consumer Product Safety Improvement Act, Pub. L. 110-314, sec 104(b)(1)(A)

Abstract: Section 104(b) of the Consumer Product Safety Improvement Act of 2008 (CPSIA) requires the Consumer Product Safety Commission (Commission) to promulgate consumer product safety standards for durable infant or toddler products. These standards are to be “substantially the same as” applicable voluntary standards or more stringent than the voluntary standards if the Commission concludes that more stringent requirements would further reduce the risk of injury associated with the product. Full-size and non-full-size cribs are among the products for which such standards are to be issued. Section 104(c) of the CPSIA makes it a prohibited act for certain entities, including child care facilities, family child care homes, and places of public accommodation affecting commerce, to provide for use cribs that do not comply with the crib standards. The Commission published an advance notice of proposed rulemaking (ANPRM) in preparation for this rulemaking, which discussed options to address hazards that the staff had identified. The ANPRM was published on November 25, 2008. On July 14, 2010, the Commission voted to approve publication of a Notice of Proposed Rulemaking (NPRM) in the Federal Register proposing standards for full-size and non-full-size cribs. The NPRM was published in the Federal Register on July 23, 2010, and the comment period closed October 6, 2010. On December 15, 2010, the Commission voted to approve publication of a final rule. The final rule was published in the Federal Register on December 28, 2010.

Timetable:

Action | Date | FR Cite
Staff Sent Draft ANPRM to Commission | 11/05/08
Commission Decision on ANPRM | 11/14/08
ANPRM Published in the Federal Register | 11/25/08 | 73 FR 71570
ANPRM Comment Period End | 01/26/09
Staff Sends Briefing Package to Commission | 06/30/10
Commission Decision | 07/14/10
NPRM | 07/23/10 | 75 FR 43308
NPRM Comment Period End | 10/06/10
Staff Sends Briefing Package to Commission | 12/01/10
Commission Decision | 12/15/10
Final Rule | 12/28/10 | 75 FR 81766

Regulatory Flexibility Analysis Required: Yes.

Agency Contact: Patricia L. Edwards, Project Manager, Consumer Product Safety Commission, Directorate for Engineering Sciences, 4330 East West Highway, Bethesda, MD 20814-4408, Phone: 301 504-7577, E-mail: pedwards@cpsc.gov.

RIN: 3041-AC57

329. Toddler Beds

Legal Authority: Pub. L. 110-314, sec 104

Abstract: Section 104 of the Consumer Product Safety Improvement Act of 2008 (CPSIA) requires the Commission to issue consumer product safety standards for durable infant or toddler products. The Commission is directed to assess the effectiveness of applicable voluntary standards and, in accordance with the Administrative Procedure Act, promulgate consumer product safety standards that are substantially the same as the voluntary standard or more stringent than the voluntary standard if the Commission determines that more stringent standards would further reduce the risk of injury associated with the product. The CPSIA requires that not later than August 14, 2008, the Commission begin rulemaking for at least two categories of durable infant or toddler products and promulgate two such standards every six months thereafter. On March 17, 2010, the Commission voted to approve publication of a notice of proposed rulemaking (NPRM) for toddler beds. The NPRM published in the Federal Register on April 28, 2010, and the comment period ended July 12, 2010. The proposed standard is based on ASTM F 1821-09, Standard Consumer Product Safety Specification for Toddler Beds, with some changes and additions. Staff is preparing a briefing package for Commission consideration of the final rule.

Timetable:

Action | Date | FR Cite
Staff Sends Briefing Package to Commission | 03/03/10
Commission Decision | 03/17/10
NPRM | 04/28/10 | 75 FR 22291
NPRM Comment Period End | 07/12/10
Staff Sends Briefing Package to Commission | 03/23/11
Commission Decision | 04/13/11
Final Rule | 04/20/11 | 76 FR 22019

Regulatory Flexibility Analysis Required: Yes.

Agency Contact: Celestine T. Kiss, Project Manager, Consumer Product Safety Commission, Directorate for Engineering Sciences, 4330 East West Highway, Bethesda, MD 20814, Phone: 301 504-7739, E-mail: ckiss@cpsc.gov.

RIN: 3041-AC82

330. Bicycle Regulation Amendments

Legal Authority: 15 U.S.C. 1261 and 1262, Federal Hazardous Substances Act

Abstract: Section 102 of the Consumer Product Safety Improvement Act of 2008 (CPSIA) requires third party testing for certain children's products. Bicycles would be tested in accordance with 16 CFR part 1512. On April 1, 2010, the Bicycle Product Suppliers Association (BPSA) petitioned the Commission for an extension of the stay of enforcement as it relates to 16 CFR part 1512, the CPSC safety regulations for bicycles. The BPSA contended that laboratory capacity was still inadequate. It also asserted that 16 CFR part 1512 is `'out of date in many respects,” and urged the Commission to revise the regulation. In a letter dated June 4, 2010, the BPSA outlined specific requirements in 16 CFR part 1512 that are problematic for certification. The Commission issued a Notice of Proposed Rulemaking (NPRM), published in the Federal Register on November 1, 2010, in which the Commission proposed limited changes to 16 CFR part 1512 to facilitate the requisite testing and certification. Following the end of the comment period, staff is preparing a briefing package for Commission consideration of a final rule.

Timetable:

Action | Date | FR Cite
Staff Sends Briefing Package to Commission | 10/13/10
Commission Decision | 10/22/10
NPRM | 11/01/10 | 75 FR 67043
NPRM Comment Period End | 01/18/11
Staff Sends Briefing Package to Commission | 04/25/11
Commission Decision | 05/05/11
Final Rule | 05/13/11 | 76 FR 27882

Regulatory Flexibility Analysis Required: Yes.

Agency Contact: Vincent Amodeo, Project Manager, Consumer Product Safety Commission, Directorate for Engineering Sciences, 4330 East West Highway, Bethesda, MD 20814, Phone: 301 504-7570, E-mail: vamodeo@cpsc.gov.

RIN: 3041-AC95

[FR Doc. 2011-15500 Filed 7-6-11; 8:45 am]

BILLING CODE 6355-01-P